DEPARTMENT OF THE TREASURY

Internal Revenue Service

Special Enrollment Examination Advisory Committee

AGENCY: Internal Revenue Service, Office of Director of Practice, Treasury.

ACTION: Notice of renewal of advisory committee.

SUMMARY: The Director of Practice gives notice of the renewal of the Special Enrollment Examination Advisory Committee.

FOR FURTHER INFORMATION CONTACT: Kathy Black, Designated Federal Officer, Special Enrollment Examination Advisory Committee, 202-694-1851.

SUPPLEMENTARY INFORMATION: In accordance with 41 CFR 101-6.1015(a)(1), the Director of Practice hereby gives notice of the renewal of the Special Enrollment Examination Advisory Committee (“SEEAC”), which was formerly known as the “Advisory Committee on the Special Enrollment Examination.” The SEEAC has been renewed under the authority of section 14(a)(2)(A) of the Federal Advisory Committee Act, 5 U.S.C. app.

Section 330 of 31 U.S.C. authorizes the Secretary of the Treasury to require that representatives before the Department demonstrate their “competency to advise and assist persons in presenting their cases.” Pursuant to that statute, the Secretary has promulgated the regulations governing practice before the Internal Revenue Service, which are found at 31 CFR part 10 and are separately published in pamphlet form as Treasury Department Circular No. 230 (to order call 1-800-829-3676).

The regulations provide that enrolled agents are among the classes of individuals eligible to practice before the Internal Revenue Service. The regulations also authorize the Director of Practice to pass upon applications for enrollment and to grant enrollment to applicants who demonstrate special competence in tax matters by written examination administered by the Internal Revenue Service. This written examination is the Special Enrollment Examination (SEE).

The purpose of the Committee is to advise the Director of Practice on the SEE. The Committee's advisory functions will include, but will not necessarily be limited to: (1) Considering areas of federal tax knowledge that should be treated on the SEE; (2) developing examination questions; and (3) recommending passing scores.

Dated: January 31, 2001.
Patrick W. McDonough,
Director of Practice.

[FR Doc. 01-3543 Filed 2-9-01; 8:45 am]

BILLING CODE 4830-01-U